DEPARTMENT OF LABOR

Employment and Training Administration

Workforce Investment Act; Native American Employment and Training Council

AGENCY: Employment and Training Administration, U.S. Department of Labor.

ACTION: Notice of meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (Council), as constituted under WIA.

DATES: The meeting will begin at 9 a.m. (Eastern Time) on Wednesday, March 3, 2010, and continue until 5 p.m. that day. The meeting will reconvene at 9 a.m. on Thursday, March 4, 2010, and adjourn at 5 p.m. that day. The period from 3 p.m. to 5 p.m. on March 4, 2010, will be reserved for participation and presentations by members of the public.

ADDRESSES: The meetings will be held at the U.S. Department of Labor (DOL), Frances Perkins Building, 200 Constitution Avenue, NW., Room S-2322, Washington, DC 20210.

SUPPLEMENTARY INFORMATION: The meeting will be open to the public. Members of the public not present may submit a written statement on or before February 23, 2010, to be included in the record of the meeting. Statements are to be submitted to Mrs. Evangeline M. Campbell, Designated Federal Official (DFO), U.S. Department of Labor, 200 Constitution Avenue, NW., Room S-4209, Washington, DC 20210. Persons who need special accommodations should contact Mr. Craig Lewis at (202) 693-3384, at least two business days before the meeting. The formal agenda will focus on the following topics: (1) DOL, Employment and Training Administration Assistant Secretary's Update; (2) DOL, Office of Workforce Investment Administrator's Update; (3) DOL PY 2010-PY 2011 Strategic Planning; (4) Reauthorization of WIA; (5) DOL, Indian and Native American Program Update; (6) Training and Technical Assistance; (7) 2010 Census; (8) Council Update; (9) Council Workgroup Reports; and (10) Council Recommendations.

FOR FURTHER INFORMATION CONTACT: Mrs. Evangeline M. Campbell, DFO, Indian and Native American Program, Employment and Training Administration, U.S. Department of Labor, Room S-4209, 200 Constitution Avenue, NW., Washington, DC 20210. Telephone number (202) 693-3737 (VOICE) (this is not a toll-free number).

Signed at Washington, DC, this 12th day of February 2010.
Jane Oates,
Assistant Secretary, Employment and Training Administration.

[FR Doc. 2010-3091 Filed 2-18-10; 8:45 am]

BILLING CODE 4510-FR-P\